SECURITIES AND EXCHANGE COMMISSION

[Release Nos. 33-8942; 34-58146; File No. 265-24]

Advisory Committee on Improvements to Financial Reporting

AGENCY: Securities and Exchange Commission.

ACTION: Notice of Meeting of SEC Advisory Committee on Improvements to Financial Reporting.

SUMMARY: The Securities and Exchange Commission Advisory Committee on Improvements to Financial Reporting is providing notice that it will hold a public telephone conference meeting on Thursday, July 31, 2008 beginning at 1 p.m. Members of the public may take part in the meeting by listening to the Webcast accessible on the Commission's Web site at http://www.sec.gov or by calling telephone number (888) 285-4585 and using code number 578070. Persons needing special accommodations to take part because of a disability should notify a contact person listed below.

The agenda for the meeting includes adoption of the Committee's final report to the Commission. The Committee may also discuss written statements received and other matters of concern. The public is invited to submit written statements for the meeting, including any comments on the draft final report discussed at the Committee's July 11, 2008 open meeting available at http://www.sec.gov/about/offices/oca/acifr.shtml.

DATES: Written statements should be received on or before July 22, 2008.

ADDRESSES: Written statements may be submitted by any of the following methods:

Electronic Comments

• Use the Commission's Internet submission form (http://www.sec.gov/rules/other.shtml); or

• Send an e-mail to rule-comments@sec.gov. Please include File Number 265-24 on the subject line.

Paper Comments

• Send paper statements in triplicate to Florence E. Harmon, Acting Federal Advisory Committee Management Officer, Securities and Exchange Commission, 100 F Street, NE., Washington, DC 20549-1090.

All submissions should refer to File No. 265-24. This file number should be included on the subject line if e-mail is used. To help us process and review your statements more efficiently, please use only one method. The Commission staff will post all statements on the Advisory Committee's Web site (http://www.sec.gov/about/offices/oca/acifr.shtml). Statements and comments also will be available for public inspection and copying in the Commission's Public Reference Room, 100 F Street, NE., Washington, DC 20549, on official business days between the hours of 10 a.m. and 3 p.m. All statements received will be posted without change; we do not edit personal identifying information from submissions. You should submit only information that you wish to make available publicly.

FOR FURTHER INFORMATION CONTACT: James L. Kroeker, Deputy Chief Accountant, or Shelly C. Luisi, Senior Associate Chief Accountant, at (202) 551-5300, Office of the Chief Accountant, Securities and Exchange Commission, 100 F Street, NE., Washington, DC 20549-6561.

SUPPLEMENTARY INFORMATION: In accordance with Section 10(a) of the Federal Advisory Committee Act, 5 U.S.C. App. 1, § 10(a), James L. Kroeker, Designated Federal Officer of the Committee, has approved publication of this notice.

Dated: July 11, 2008.
Florence E. Harmon,
Acting Committee Management Officer.

[FR Doc. E8-16351 Filed 7-16-08; 8:45 am]

BILLING CODE 8010-01-P